DEPARTMENT OF THE INTERIOR

Bureau of Land Management

[CA-610-03-1220-AA]

Notice of Cancellation of Public Meeting, California Desert District Advisory Council

AGENCY: Bureau of Land Management, Interior.

ACTION: Cancellation Notice of California Desert District Advisory Council Public Meeting.

SUMMARY: Publication of this notice serves to notify the public that the U.S. Department of the Interior, Bureau of Land Management (BLM) California Desert District Advisory Council (DAC) field tour scheduled on Thursday, March 27, 2003, and the public meeting scheduled on Friday, March 28 and Saturday, March 29, 2003, in Barstow, California have been canceled.

FOR MORE INFORMATION CONTACT: Doran Sanchez, BLM California Desert District External Affairs, at (909) 697-5220.

Dated: March 10, 2003.
Linda Hansen,
District Manager.

[FR Doc. 03-6138 Filed 3-13-03; 8:45 am]

BILLING CODE 4310-40-P